NATIONAL SCIENCE FOUNDATION

Advisory Committee for Engineering; Notice of Meeting

In accordance with Federal Advisory Committee Act (Pub. L. 92-463, as amended), the National Science Foundation announces the following meeting:

Name: Advisory Committee for Engineering (1170).

Date/Time: May 3, 2006, 8 a.m.-5 p.m.; May 4, 2006, 8 a.m.-1 p.m.

Place: National Science Foundation, Room 1235.

Type of Meeting: Open.

Contact Person: Deborah Young, Administrative Officer, 703-292-8301.

Purpose of Meeting: To provide advice, recommendations and counsel on major goals and policies pertaining to engineering programs and activities.

Agenda: The principal focus of the forthcoming meeting will be on strategic issues, both for the Directorate and the Foundation as a whole. The Committee will also address matters relating to the future of the engineering profession and engineering education.

Dated: March 27, 2006.
Susanne Bolton,
Committee Management Officer.

[FR Doc. 06-3128 Filed 3-30-06; 8:45 am]

BILLING CODE 7555-01-M